GENERAL SERVICES ADMINISTRATION

[Notice-ME-2022-01; Docket No. 2022-0002; Sequence No. 1]

Notice of GSA Live Webinar Regarding Data Center Sustainability

AGENCY: Office of Government-wide Policy (OGP), General Services Administration (GSA).

ACTION: Virtual meeting notice.

SUMMARY: GSA is hosting a Data Center Sustainability Summit to obtain information from federal and industry communities. The summit focuses on the energy, environment, and infrastructure benefits that result from IT modernization and a transition from government-owned data centers to commercially-owned facilities, cloud computing, or software-as-a-service that can help the Federal Government reach its sustainability goals.

DATES: Wednesday, April 6 and Thursday, April 7, 2022, at 10:00 a.m., Eastern Daylight Time (EDT).

ADDRESSES: This is a virtual event and the call-in information will be made available upon registration. All attendees, including industry partners, must register for the ZoomGov event here: https://gsa.zoomgov.com/webinar/register/9816439918053/WN_KkzAepS7TXCqg7gEvcUXRA.

Members of the press, in addition to registering for this event, must also RSVP to press@gsa.gov.

FOR FURTHER INFORMATION CONTACT: Tom Santucci at thomas.santucci@gsa.gov or 202-230-4822.

SUPPLEMENTARY INFORMATION:

Background

The Biden Administration established government-wide sustainability goals in the 2021 Executive Order on Catalyzing Clean Energy Industries and Jobs Through Federal Sustainability (E.O. 14057, located at https://www.whitehouse.gov/briefing-room/presidential-actions/2021/12/08/executive-order-on-catalyzing-clean-energy-industries-and-jobs-through-federal-sustainability/) and its accompanying Federal Sustainability Plan (located at https://www.sustainability.gov/federalsustainabilityplan/index.html).

The E.O. communicates five government-wide goals for tackling the climate crisis:

• 100 percent carbon pollution-free electricity by 2030

• 100 percent zero-emission vehicle acquisitions by 2035

• Net-zero emissions from federal procurement no later than 2050

• A net-zero emissions building portfolio by 2045

• Net-zero emissions from overall federal operations by 2050

As the current Data Center Optimization Initiative (DCOI) policy (M-21-05, available here: https://www.whitehouse.gov/wp-content/uploads/2020/11/M-21-05.pdf) is set to sunset at the end of Fiscal Year 2022, GSA is interested in obtaining information about sustainability best practices for IT infrastructure that could help inform the development of new DCOI metrics.

Format

The Data Center and Cloud Sustainability and Resiliency Summit convenes leaders from the federal government and industry for an educational forum to discuss how adoption of modern IT solutions is critical to the country's transition to clean, zero-emissions technologies. Additionally, this summit seeks to explore these solutions' additional economic and national security benefits. If you have questions for the panelists about their sustainability initiatives and technologies, submit them via email to dccoi@gsa.gov by COB March 25th, 2022.

Special Accommodations

For those who need accommodations, ZoomGov will have an option to turn on closed captioning. If additional accommodations are needed, please indicate this on the ZoomGov registration form.

Live Webinar Speakers (Subject To Change Without Notice)

Hosted by

• GSA/Office of Government-wide Policy.

Sponsored by

• Federal Chief Information Officers Council

• Information Technology Industry Council

Also co-sponsored by

• Data Center Coalition

Keynote Speakers

• Special Guest, TBD

Agenda
[Subject to change without notice]
Day 1: Start time | Topic
10:00 a.m | Opening Remarks.
10:05 a.m | Opening Keynote: Topic TBD.
10:25 a.m | Panel #1: IT Infrastructure and America's Path to Net-Zero Emissions by 2050.
11:00 a.m | Panel #2: A Mission-First Approach to Leveraging the Cloud.
11:35 a.m | Panel #3: Case Study 1—Data Center CoLo Benefits.
12:00 p.m | Break: Industry Tech Talks.
1:00 p.m | Panel #4: Cloud Computing Benefits to Agency Missions.
1:30 p.m | Panel #5: Cloud Service Providers.
2:10 p.m | Panel #6: Department of Defense.
2:35 p.m | Panel #7: Data Center Sustainability Strategies and Initiatives.
3:00 p.m | Panel #8: Case Study 2—Data Center CoLo Benefits.
3:25 p.m | Panel #9: Powering the Supercomputers of Today.
3:55 p.m | Conclusion Remarks.
4:00 p.m | Day 1 Concludes.

Day 2: Start time | Topic
10:00 a.m | Opening Remarks.
10:05 a.m | Opening Keynote: Topic TBD.
10:20 a.m | Panel #1: Innovation in Data Centers.
10:30 a.m | Panel #2: Revitalizing Underserved Communities with Disruptive Data Center Technologies.
11:05 a.m | Panel #3: “Greening” Federal IT Purchasing.
11:35 a.m | Panel #4: Software as a Service Providers.
12:00 p.m | Break: Industry Tech Talks.
1:00 p.m | Panel #5: Federal Government and the “Green Grid”.
1:40 p.m | Roundtable 1: Former Government Leaders on Future Data Center Metrics.
2:40 p.m | Roundtable 2: Industry on Future Data Center Metrics.
3:40 p.m | Closing Keynote.
3:55 p.m | Conclusion Remarks.
4:00 p.m | Day 2 Concludes.

Thomas Santucci,
GSA IT Modernization Director, General Services Administration.

[FR Doc. 2022-04751 Filed 3-4-22; 8:45 am]

BILLING CODE 6820-14-P